DEPARTMENT OF ENERGY

Federal Energy Regulatory Commission

Combined Notice of Filings—No. 1

June 2, 2009.

Take notice that the Commission has received the following Natural Gas Pipeline Rate and Refund Report filings:

Docket Numbers: RP09-615-000.

Applicants: Gulf States Transmission Corporation

Description: Gulf States Transmission Corporation submits Fifth Revised Sheet 3 to FERC Gas Tariff, Original Volume 1, to be effective 6/1/09.

Filed Date: 05/28/2009.

Accession Number: 20090529-0022.

Comment Date: 5 p.m. Eastern Time on Tuesday, June 9, 2009.

Docket Numbers: RP09-616-000.

Applicants: Kern River Gas Transmission Company.

Description: Kern River Gas Transmission Company submits Fifth Revised Sheet 2 et al. to FERC Gas Tariff, Second Revised Volume 1, to be effective 7/1/09.

Filed Date: 05/28/2009.

Accession Number: 20090529-0021.

Comment Date: 5 p.m. Eastern Time on Tuesday, June 9, 2009.

Docket Numbers: RP09-617-000.

Applicants: Viking Gas Transmission Company.

Description: Viking Gas Transmission Company submits Fourth Revised Sheet 10 et al. to FERC Gas Tariff, Original Volume 1, to be effective 7/1/09.

Filed Date: 05/28/2009.

Accession Number: 20090529-0020.

Comment Date: 5 p.m. Eastern Time on Tuesday, June 9, 2009.

Docket Numbers: RP09-619-000.

Applicants: Enbridge Pipelines (AlaTenn) LLC.

Description: Enbridge Pipelines (AlaTenn) LLC submits Fourth Revised Sheet 197 et al. to FERC Gas Tariff—Fourth Revised Volume 1, to be effective 8/1/09.

Filed Date: 05/28/2009.

Accession Number: 20090529-0091.

Comment Date: 5 p.m. Eastern Time on Tuesday, June 9, 2009.

Docket Numbers: RP09-620-000.

Applicants: Enbridge Offshore Pipelines (UTOS) LLC.

Description: Enbridge Offshore Pipelines (UTOS) LLC submits Fifth Revised Sheet 164 to FERC Gas Tariff—Fifth Revised Volume 1, to be effective 8/1/09.

Filed Date: 05/28/2009.

Accession Number: 20090529-0090.

Comment Date: 5 p.m. Eastern Time on Tuesday, June 9, 2009.

Docket Numbers: RP09-621-000.

Applicants: Nautilus Pipeline Company, LLC.

Description: Nautilus Pipeline Company LLC submits Ninth Revised Sheet 216 and Fifth Revised Sheet 217 to FERC Gas Tariff—Original Volume 1, to be effective 8/1/09.

Filed Date: 05/28/2009.

Accession Number: 20090529-0089.

Comment Date: 5 p.m. Eastern Time on Tuesday, June 9, 2009.

Docket Numbers: RP09-626-000.

Applicants: KO Transmission Company.

Description: KO Transmission Company submits Eighth Revised Sheet 147 to FERC Gas Tariff, Original Volume 1, to be effective 8/1/09.

Filed Date: 05/28/2009.

Accession Number: 20090601-0096.

Comment Date: 5 p.m. Eastern Time on Tuesday, June 9, 2009.

Docket Numbers: RP09-625-000.

Applicants: Southern Natural Gas Company.

Description: Southern Natural Gas Company 2009 Fuel Sharing Refund Report.

Filed Date: 05/29/2009.

Accession Number: 20090529-5036.

Comment Date: 5 p.m. Eastern Time on Wednesday, June 10, 2009.

Docket Numbers: RP09-627-000.

Applicants: Iroquois Gas Transmission System, L.P.

Description: Iroquois Gas Transmission System, LP submits Fifth Revised Sheet No 10 et al. to FERC Gas Tariff, First Revised Volume No 1, to be effective 7/1/09.

Filed Date: 05/29/2009.

Accession Number: 20090529-0085.

Comment Date: 5 p.m. Eastern Time on Wednesday, June 10, 2009.

Docket Numbers: RP09-628-000.

Applicants: Equitrans, LP.

Description: Equitrans, LP submits Twenty Fourth Revised Sheet No 5 et al. to FERC Gas Tariff, Original Volume No 1, to be effective 7/1/09.

Filed Date: 05/29/2009.

Accession Number: 20090529-0084.

Comment Date: 5 p.m. Eastern Time on Wednesday, June 10, 2009.

Docket Numbers: RP09-633-000.

Applicants: Millennium Pipeline Company L.L.C.

Description: Millennium Pipeline Company, LLC submits First Revised Sheet No 0 et al. to its FERC Gas Tariff, Original Volume No 1, to be effective 7/1/09.

Filed Date: 05/29/2009.

Accession Number: 20090529-0108.

Comment Date: 5 p.m. Eastern Time on Wednesday, June 10, 2009.

Docket Numbers: RP09-634-000.

Applicants: Colorado Interstate Gas Company.

Description: Colorado Interstate Gas Company Quarterly Lost, Unaccounted For and Other Fuel Gas Reimbursement Percentage of Colorado Interstate Gas Company.

Filed Date: 05/29/2009.

Accession Number: 20090529-5129.

Comment Date: 5 p.m. Eastern Time on Wednesday, June 10, 2009.

Docket Numbers: RP09-635-000.

Applicants: National Fuel Gas Supply Corporation.

Description: National Fuel Gas Supply Corporation submits 128th Revised Sheet No 9 to its FERC Gas Tariff, Fourth Revised Volume No 1.

Filed Date: 05/29/2009.

Accession Number: 20090601-0152.

Comment Date: 5 p.m. Eastern Time on Wednesday, June 10, 2009.

Docket Numbers: RP09-636-000.

Applicants: Maritimes & Northeast Pipeline, L.L.C.

Description: Maritimes & Northeast Pipeline, LLC submits Fourth Revised Sheet No 294 to its FERC Gas Tariff, First Revised Volume No 1.

Filed Date: 05/29/2009.

Accession Number: 20090601-0157.

Comment Date: 5 p.m. Eastern Time on Wednesday, June 10, 2009.

Docket Numbers: RP09-639-000.

Applicants: Kinder Morgan Illinois Pipeline LLC.

Description: Kinder Morgan Illinois Pipeline LLC submits First Revised Sheet No 225 et al. to its FERC Gas Tariff, Original Volume No 1 to be effective 8/1/09.

Filed Date: 06/01/2009.

Accession Number: 20090601-0180.

Comment Date: 5 p.m. Eastern Time on Monday, June 15, 2009.

Docket Numbers: RP09-640-000.

Applicants: Texas Gas Transmission, LLC.

Description: Texas Gas Transmission, LLC submits First Revised Sheet No 1300 et al. to its FERC Gas Tariff, Third Revised Volume No 1 to be effective 8/1/09.

Filed Date: 06/01/2009.

Accession Number: 20090601-0179.

Comment Date: 5 p.m. Eastern Time on Monday, June 15, 2009.

Docket Numbers: RP09-641-000.

Applicants: Gulf Crossing Pipeline Company LLC.

Description: Gulf Crossing Pipeline Company LLC submits First Revised Sheet No 300 et al. to its FERC Gas Tariff, Original Volume No 1 to be effective 8/1/09.

Filed Date: 06/01/2009.

Accession Number: 20090601-0178.

Comment Date: 5 p.m. Eastern Time on Monday, June 15, 2009.

Docket Numbers: RP09-647-000.

Applicants: Panther Interstate Pipeline Energy, LLC.

Description: Panther Interstate Pipeline Energy, LLC submits Second Revised Sheet No 42 to its FERC Gas Tariff, Original Volume No 1 to be effective 7/1/09.

Filed Date: 06/01/2009.

Accession Number: 20090601-0177.

Comment Date: 5 p.m. Eastern Time on Monday, June 15, 2009.

Docket Numbers: RP09-648-000.

Applicants: Gulf South Pipeline Company, LP.

Description: Gulf South Pipeline Company, LP submits Fifth Revised Sheet No 2400 et al. to its FERC Gas Tariff, Sixth Revised Volume No 1 to be effective 8/1/09.

Filed Date: 06/01/2009.

Accession Number: 20090601-0176.

Comment Date: 5 p.m. Eastern Time on Monday, June 15, 2009.

Docket Numbers: RP09-650-000.

Applicants: Natural Gas Pipeline Co of America LLC.

Description: Natural Gas Pipeline Company of America LLC submits First Revised Sheet No 530 et al. to its FERC Gas Tariff, Seventh Revised Volume No 1 to be effective 8/1/09.

Filed Date: 06/01/2009.

Accession Number: 20090601-0174.

Comment Date: 5 p.m. Eastern Time on Monday, June 15, 2009.

Docket Numbers: RP09-652-000.

Applicants: Kinder Morgan Louisiana Pipeline LLC.

Description: Kinder Morgan Louisiana Pipeline LLC submits First Revised Sheet No 242 et al. to its FERC Gas Tariff, Original Volume No 1 to be effective 8/1/09.

Filed Date: 06/01/2009.

Accession Number: 20090601-0175.

Comment Date: 5 p.m. Eastern Time on Monday, June 15, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-13393 Filed 6-8-09; 8:45 am]

BILLING CODE 6717-01-P